FEDERAL ELECTION COMMISSION

Sunshine Act Meeting

AGENCY: Federal Election Commission

DATE AND TIME: Tuesday, April 12, 2016 at 10:00 a.m.

PLACE: 999 E Street NW., Washington, DC.

STATUS: This Meeting Will be Closed to the Public.

FEDERAL REGISTER NOTICE OF PREVIOUS ANNOUNCEMENT: 81 FR 20383.

CHANGE IN THE MEETING: This meeting was continued on April 26, 2016.

PERSON TO CONTACT FOR INFORMATION: Judith Ingram, Press Officer, Telephone: (202) 694-1220.

Shelley E. Garr,
Deputy Secretary.

[FR Doc. 2016-10329 Filed 4-28-16; 4:15 pm]

BILLING CODE 6715-01-P